DEPARTMENT OF COMMERCE

National Oceanic and Atmospheric Administration

Hydrographic Services Review Panel Meeting

AGENCY: National Ocean Service, National Oceanic and Atmospheric Administration (NOAA), Department of Commerce.

ACTION: Notice of open meeting.

SUMMARY: The Hydrographic Services Review Panel (HSRP) is a Federal Advisory Committee established to advise the Under Secretary of Commerce for Oceans and Atmosphere on matters related to the responsibilities and authorities set forth in section 303 of the Hydrographic Services Improvement Act of 1998, its amendments, and such other appropriate matters that the Under Secretary refers to the Panel for review and advice.

Date and Time: The public meeting will be held on November 27-29, 2012. November 27th from 8:30 a.m. to 5:30 p.m.; November 28th from 8:30 a.m. to 5:30 p.m.; and November 29th from 8:30 a.m. to 5:30 p.m.

Location: Astor Crowne Plaza, 739 Canal Street, New Orleans, Louisiana, 70130, tel: (504) 962-0500. Refer to the HSRP Web site listed below for the most current meeting agenda. Times and agenda topics are subject to change.

FOR FURTHER INFORMATION CONTACT: Kathy Watson, HSRP Program Coordinator, National Ocean Service (NOS), Office of Coast Survey, NOAA (N/CS), 1315 East West Highway, Silver Spring, Maryland 20910; Telephone: 301-713-2770 ext. 158; Fax: 301-713-4019; Email: Hydroservices.panel@noaa.gov or visit the NOAA HSRP Web site at http://nauticalcharts.noaa.gov/ocs/hsrp/hsrp.htm.

SUPPLEMENTARY INFORMATION: The HSRP meeting will be open to the public and public comment periods (on-site) will be scheduled in the meeting agenda. Comment periods are scheduled in the afternoon, will be limited to a total time of five (5) minutes per person, and are recorded as part of the meeting minutes. A final meeting agenda will be posted on the HSRP Web site at: http://nauticalcharts.noaa.gov/ocs/hsrp/hsrp.htm before November 27, 2012. Written comments should be subn1itted to Hydroservices.panel@noaa.gov by November 19, 2012. Written comments received after November 19, 2012, will be distributed, but may not reach Panel members for review until the meeting date. Approximately 30 seats will be available for the public, on a first-come, first-served basis.

Special Accommodations: HSRP public meetings are physically accessible to people with disabilities. Requests for sign language interpretation or other auxiliary aids should be directed to Kathy Watson, HSRP Program Coordinator, National Ocean Service (NOS), Office of Coast Survey, NOAA (N/CS), 1315 East West Highway, Silver Spring, Maryland 20910; Telephone: 301-713-2770 ext. 158, or Email: Kathy.Watson@noaa.gov by November 8, 2012.

Matters to be Considered: Regional and local stakeholders will present to the HSRP on issues relevant to NOAA's navigation services and products. Broad topic areas to be heard about include: (1) Current and future needs of regional ports and navigation users; (2) use of coastal observation systems for coastal protection and restoration programs and surge and inundation models to protect coastal populations; and (3) use of geospatial services and spatial reference systems to support sea level rise and land subsidence observations.

The HSRP will also hold focused Stakeholder Breakout Sessions with regional and local stakeholders to further discuss challenges and issues presented during the Stakeholder Panel presentations, and other issues not previously presented. Three Stakeholder Breakout Sessions will be held on Thursday, November 29, 2012 with the general themes: Hydrographic Surveying/Charting; Geospatial Positioning; and Tides, Currents and Water Levels. Regional and local stakeholders with interests in NOAA's navigation services and products are invited to actively participate in these breakout sessions. You can sign up for these sessions by contacting the NOAA's Gulf of Mexico Navigation Manager, Mr. Tim Osborn at email: Tim.Osbon@noaa.gov; or the HSRP Program Coordinator, Kathy Watson at email: Kathy.Watson@noaa.gov. The breakout sessions are the opportunity for stakeholders to raise concerns and develop recommended actions to address the issues facing the Gulf of Mexico region. The HSRP will consider input from these breakout sessions, and from the other meeting presentations, to develop its recommendations to the NOAA Under Secretary for improving NOAA's suite of navigation data, products, and services for the Gulf of Mexico region.

Other matters to be discussed will include HSRP working group updates, meeting administration, and public comments.

Dated: October 31, 2012.
Gerd F. Glang,
Director, Office of Coast Survey, National Ocean Service, National Oceanic and Atmospheric Administration.

[FR Doc. 2012-27295 Filed 11-9-12; 8:45 am]

BILLING CODE 3510-JE-P